FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 23, 2005.

A. Federal Reserve Bank of Minneapolis (Jacqueline G. Nicholas, Community Affairs Officer) 90 Hennepin Avenue, Minneapolis, Minnesota 55480-0291:

1. Severson Family Limited Partnership, Apple Valley, Minnesota and Larry S. Severson, Lakeville, Minnesota as general partner, to become part of a group acting in concert, which will consist of Severson Family Limited Partnership, Apple Valley, Minnesota, Larry Severson, Lakeville, Minnesota, as general partner; Cobb Limited Partnership, Lake Havasu City, Arizona, Michael J. Cobb, Sr., Lake Havasu City, Arizona, as general partner; and a Voting Trust Agreement, Apple Valley, Minnesota, John F. Woodhead, St. Louis Park, Minnesota, as trustee; and thereby acquire control of Financial Services of St. Croix Falls, Inc., St. Croix Falls, Wisconsin, and thereby indirectly acquire voting shares of Eagle Valley Bank, N.A., St. Croix Falls, Wisconsin.

B. Federal Reserve Bank of Kansas City (Donna J. Ward, Assistant Vice President) 925 Grand Avenue, Kansas City, Missouri 64198-0001:

1. Willard L. Frickey, Las Vegas, Nevada, Bradley K. Frickey, Brian K. Frickey, and Tracy R. Hudson, all of Ellis, Kansas, and Trever L. Frickey, Kansas City, Missouri; to acquire votings shares of Hanston Insurance Agency, Inc., and thereby indirectly acquire voting shares of Hanston State Bank, both of Hanston, Kansas.

Board of Governors of the Federal Reserve System, May 3, 2005.
Robert deV. Frierson,
Deputy Secretary of the Board.

[FR Doc. 05-9164 Filed 5-6-05; 8:45 am]

BILLING CODE 6210-01-S